DEPARTMENT OF THE INTERIOR

Bureau of Indian Affairs

Draft Environmental Impact Statement for the Proposed Desert Rock Energy Project and the Navajo Mine Extension Project, San Juan County, NM: Reopening of Comment Period

AGENCY: Bureau of Indian Affairs, Interior.

ACTION: Notice.

SUMMARY: This notice advises the public that the Bureau of Indian Affairs (BIA) and the Environmental Protection Agency (EPA) are reopening the comment period on the draft Environmental Impact Statement (DEIS) for the Proposed Desert Rock Energy Project and the Navajo Mine Extension Project, San Juan County, New Mexico, for an additional 30 days. The Notice of Availability of the DEIS, published by in the Federal Register by the BIA on June 20, 2007 (72 FR 34035), and by the EPA on June 22, 2007 (72 FR 34463), announced a closing date for comments of August 20, 2007.

DATES: Written comments for the reopened comment period must arrive by 4 p.m. Mountain Standard Time (MST), October 9, 2007.

ADDRESSES: You may mail written comments on the DEIS via U.S. Postal Service first class or priority to Harrilene Yazzie, Regional NEPA Coordinator, Navajo Regional Office, Bureau of Indian Affairs, P.O. Box 1060, Gallup, New Mexico 87305. You may also hand carry, or have written comments delivered by U.S. Postal Service Express Mail or by courier service to Harrilene Yazzie at the Navajo Regional Office, Bureau of Indian Affairs, 301 W. Hill Street, Gallup, New Mexico 87305. In addition, you may send comments by e-mail to the project Web site, www.desertrockenergy.com, or to the BIA contractor's e-mail account for this project, desertrockEIS@urscorp.com. Please include the caption, “Desert Rock Energy Project DEIS Comments,” at the top of your letter or in the subject line of your e-mail message; be specific in your comments and cite the chapter, page, paragraph, and sentence to which they pertain; and include your name and return address in your letter or message.

The DEIS is available for review at the BIA Office, 301 West Hill Street, Gallup, New Mexico. It is also available for review on the project Web site www.desertrockenergy.com. A limited number of compact disk (CD) and paper copies have been prepared for distribution and are available upon request. For your convenience, however, the BIA recommends using the Internet or other publicly available copies for reviews where possible. You may obtain a CD or paper copy by contacting Harrilene Yazzie at the BIA mailing address provided in the ADDRESSES section, at her telephone number shown below, or by fax at (505) 863-8324.

FOR FURTHER INFORMATION CONTACT: Harrilene Yazzie, (505) 863-8286.

SUPPLEMENTARY INFORMATION:

Reopening of the Comment Period

On June 20 and 22, 2007, the BIA and the EPA, respectively, published notices in the Federal Register announcing the availability of the DEIS, a comment period closing on August 20, 2007, and the dates, times and locations of 10 public hearings on the DEIS. These public hearings were held between July 17 and July 25, 2007. Subsequent to the publishing of the notices, the BIA received requests to extend the comment period. We are reopening the comment period in consideration of these requests.

Background on the Desert Rock Energy Project EIS

The DEIS analyzes and discloses probable environmental effects of the proposed Desert Rock Energy Project (or referred to herein as Desert Rock Energy Project or proposed project/action) and the Navajo Mine Extension Project (or referred to herein as the Navajo Mine Extension Project or Area IV North, Area IV South and Area V of the BHP Navajo Coal Company [BNCC] Lease Area).

Together, Sithe Global Power, LLC, by and through the Desert Rock Energy Company, LLC, and Dino Power Authority (DPA), a Navajo Nation enterprise, are proposing to develop and construct the Desert Rock Energy Project. Desert Rock Energy Company, LLC, entered into a development agreement with DPA to develop and construct a coal-fired power plant on the Navajo Reservation. Desert Rock Energy Company, LLC, is a privately held, independent power company and a limited liability corporation formed under the laws of the State of Delaware. DPA was established by the Navajo Nation Council to develop utility-scale energy projects on behalf of the Navajo Nation for the economic benefit of the Navajo people.

The proposed project involves the construction and operation of a coal-fired electrical power plant that would generate up to 1,500 megawatts (MW) of power; the extension of existing surface coal mining operations at the Navajo Mine to provide fuel for the power plant; disposal of coal combustion by-products (CCBs); and mine reclamation operations along with associated mine support facilities and activities. The proposed project also includes a water well field and supply pipeline to the power plant, transmission lines, a receiving electrical station, other upgrades and ancillary facilities required in the production and transmission of electricity, and new access roads.

The proposed project is located approximately 30 miles southwest of Farmington in San Juan County, New Mexico, and is entirely on trust lands within the exterior boundaries of the Navajo Nation. The power plant would be constructed on a 592-acre parcel immediately adjacent to, and west of Area IV North of the BNCC Lease Area. The coal fuel supply would be produced from Areas IV South and V of the BNCC Lease Area and transported by conveyor to a proposed coal preparation facility located in Area IV North of the BNCC lease area, near the power plant.

The proposed project requires a long-term business site lease between the Navajo Nation and DPA, and a sublease between DPA and Desert Rock Energy Company, LLC. Because the power plant and associated facilities would be located on land held in trust by the federal government for the Navajo Nation within the Navajo reservation, the lease must be approved by BIA, an agency of the United States Department of the Interior.

The DEIS is intended to satisfy the requirements of the National Environmental Policy Act for each federal agency's decision related to the siting, construction, operation, and maintenance of the proposed facility; and to aid federal, Navajo Nation, state, and local permitting authorities with their permitting responsibilities, including surface coal mining, CCB disposal and reclamation activities on the BNCC Lease Area under the Surface Mining Control and Reclamation Act of 1977 (SMCRA).

Availability of Your Comments for Public Review

Comments, including names and addresses of respondents, will be available for public review at the street address shown in the ADDRESSES section, during regular business hours, 8 a.m. to 4:30 p.m., Monday through Friday, except holidays. Before including your address, phone number, e-mail address or other personal identifying information in your comment, you should be aware that your entire comment—including your personal identifying information—may be made publicly available at any time. While you can ask us in your comment to withhold your personal identifying information from public review, we cannot guarantee that we will be able to do so.

Authority

This notice is published in accordance with section 1503.1 of the Council on Environmental Quality Regulations (40 CFR, Parts 1500 through 1508) implementing the procedural requirements of the National Environmental Policy Act of 1969, as amended (42 U.S.C. 4321 et. Seq.), and the Department of the Interior Manual (516 DM 1-6), and is in the exercise of authority delegated to the Assistant Secretary—Indian Affairs by 209 DM 8.

Willie R. Taylor,
Director, Office of Environmental Policy and Compliance.

[FR Doc. E7-17356 Filed 9-6-07; 8:45 am]

BILLING CODE 4310-W7-P